DEPARTMENT OF LABOR

Office of the Secretary of Labor

5 CFR Part 5201

29 CFR Parts 70 and 71

Technical Amendments Due to Change of Agency Name

AGENCY: Office of the Secretary of Labor, Department of Labor.

ACTION: Final rule.

SUMMARY: This document revises all references to the Pension and Welfare Benefits Administration in 5 CFR part 5201 and in 29 CFR parts 70 and 71 to reflect the change of that agency's name to the Employee Benefits Security Administration. 5 CFR part 5201 contains standards of ethical conduct for Department of Labor employees. 29 CFR part 70 relates to the production or disclosure of information by the Department, and 29 CFR part 71 relates to the maintenance of systems of records in accordance with the Privacy Act. 5 U.S.C. 552a. All the changes made in this rule are strictly technical.

DATES: Effective date: This rule is effective on April 3, 2003.

FOR FURTHER INFORMATION CONTACT: William W. Taylor, Office of the Solicitor, Plan Benefits Security Division, U.S. Department of Labor, (202) 693-5583. This is not a toll-free number.

SUPPLEMENTARY INFORMATION:

I. Summary of Rule

On February 3, 2003, the Secretary of Labor published in the Federal Register Secretary of Labor's Order No. 1-2003 (68 FR 5374). This order renamed the Pension and Welfare Benefits Administration (PWBA) as the Employee Benefits Security Administration (EBSA). The title, “Assistant Secretary for Pension and Welfare Benefits” became “Assistant Secretary for Employee Benefits Security.” All the functions formerly carried out by PWBA and this Assistant Secretary remain unchanged. As a result of this name change, we are revising all references to “Pension and Welfare Benefits Administration” that appear in these parts. The Department has previously published similar amendments to chapter XXV of title 29 of the CFR.

II. Administrative Procedure Act

Because this regulation merely implements a change in the name of government agency and in the titles of certain government officers, it relates only to agency organization, procedure or practice; requirements for prior notice and public comment do not apply. 5 U.S.C. 553(b)(3)(A). The limited purpose and effect of this rule also justifies the finding for good cause, pursuant to 5 U.S.C. 553(d)(3) that the rule should take effect immediately.

III. Paperwork Reduction Act

This final rule does not include or modify a collection of information as defined in 44 U.S.C. 3502(3) of the Paperwork Reduction Act of 1995.

IV. Regulatory Flexibility Act

Because the Department is issuing this rule without a proposal and an opportunity for comments, the Regulatory Flexibility Act (5 U.S.C. 601 et seq.) does not apply. In any event, the technical amendments made by this regulation will not have a significant impact on a substantial number of small entities.

V. Congressional Review Act

This regulation is a rule of agency organization, procedure or practice that does not substantially affect the rights or obligations of non-agency parties. It is therefore not subject to the Congressional Review Act pursuant to 5 U.S.C. 801 and 804(1).

VI. Executive Order 12866

We have consulted the Office of Management and Budget and determined that this rule does not meet the criteria for a significant regulatory action under Executive Order 12866.

VII. Federalism

This rule does not have Federalism implications under Executive Order 13132.

For the reasons set forth in the preamble, there are amended the following parts of the Code of Federal Regulations:

(a) Part 5201 of Title 5, Code of Federal Regulations (5 CFR part 5201);

(b) Part 70 of Title 29, Code of Federal Regulations (29 CFR part 70); and

(c) Part 71 of Title 29, Code of Federal Regulations (29 CFR part 71).

Title 5—Administrative Personnel

PART 5201—SUPPLEMENTAL STANDARDS OF ETHICAL CONDUCT FOR EMPLOYEES OF THE DEPARTMENT OF LABOR

1. The authority citation for part 5201 continues to read as follows:

Authority: 5 U.S.C. 301, 7301, 7353; 5 U.S.C. App. (Ethics in Government Act); E.O. 12674, 54 FR 15159, 3 CFR 1989 Comp., p. 215, as modified by E.O. 12731, 55 FR 42547, 3 CFR, 1990 Comp., 5 CFR 2635.105, 2635.203(a) , 2635.403(a), 2635.803.

§ 5201.102 [Amended]

2. In § 5201.102, paragraph (a)(6) is revised to read “Employee Benefits Security Administration (EBSA).”

§ 5201.103 [Amended]

3. In § 5201.103, paragraph (e) is revised to read “Employee Benefits Security Administration.”

4. In § 5201.103, example 2, the term “Pension and Welfare Benefits Administration” is revised to read “Employee Benefits Security Administration” and the term “PWBA” is revised to read “EBSA.”

Title 29—Labor

PART 70—PRODUCTION OR DISCLOSURE OF INFORMATION OR MATERIALS

5. In the table of contents for Part 70, at the reference to § 70.54, the term “Pension and Welfare Benefits Administration” is revised to read “Employee Benefits Security Administration.”

§ 70.54 [Amended]

6. All references to “Pension and Welfare Benefits Administration § 70.54 are revised to read “Employee Benefits Security Administration.”

Appendix A [Amended]

7. Appendix A to part 70 is amended as follows:

a. In paragraph (a)(13), the term “Pension and Welfare Benefits Administration” is revised to read “Employee Benefits Security Administration.”

b. In paragraph (b)(1), all references to “Pension and Welfare Benefits Administration “are revised to read “Employee Benefits Security.”

Appendix B [Amended]

8. Appendix B to part 70 is amended as follows:

(a) The term “Pension and Welfare Benefits” is revised to read “Employee Benefits Security Administration;”

(b) The term “PWBA” is revised to read “EBSA;” and

(c) The name “June Patron” is revised to read “Sharon Watson;”

(d) The telephone number “219-6999” is revised to read “693-8630.”

PART 71—PROTECTION OF INDIVIDUAL PRIVACY AND ACCESS TO RECORDS UNDER PRIVACY ACT OF 1974

9. The authority citation for part 71 continues to read as follows:

Authority: 5 U.S.C. 301; 5 U.S.C. 552a as amended; Reorganization Plan No. 6 of 1950, 5 U.S.C. Appendix.

§ 71.50 [Amended]

10. In § 71.50, paragraph (a)(7), the term “DOL/PWBA-2” is revised to read “DOL/EBSA-2,” and the term “Pension and Welfare Benefits Administration” is revised to read “Employee Benefits Security Administration.”

§ 71.51 [Amended]

11. Sec.71.51, is amended as follows:

(a) In paragraph (a)(30), the term “DOL/PWBA-2” is revised to read “DOL/EBSA-2,” and the term “Pension and Welfare Benefits Administration (PWBA)” is amended to read “Employee Benefits Security Administration (EBSA);”

(b) In paragraph (a)(31), the term “DOL/PWBA-7” is revised to read “DOL/EBSA-7” and the term “PWBA” is revised to read “EBSA;”

Appendix A [Amended]

12. In appendix A to part 71, all references to “Pension and Welfare Benefits Administration” are revised to read “Employee Benefits Security Administration.”

Signed at Washington, DC this 28th day of March, 2003.
Elaine L. Chao,
Secretary of Labor.

[FR Doc. 03-8100 Filed 4-2-03; 8:45 am]

BILLING CODE 4510-23-P